DEPARTMENT OF COMMERCE

National Oceanic and Atmospheric Administration

[RTID 0648-XF132]

NOAA Fisheries Virtual Peer Review Workshop for the Fishing Effort Survey Calibration Model

AGENCY: National Marine Fisheries Service (NMFS), National Oceanic and Atmospheric Administration (NOAA), Commerce.

ACTION: Notice of Peer Review Workshop for the NOAA Fisheries' Fishing Effort Survey Calibration Model.

SUMMARY: NOAA Fisheries Office of Science and Technology will host a two-day virtual workshop with the opportunity for partner and public comment for the independent peer review of the proposed Fishing Effort Survey (FES) calibration model methodology. The model is proposed for use to update the historical recreational fishing estimates produced using the FES to the scale of the improved FES anticipated for implementation in January 2026. Pending peer review results and associated next steps, calibrated estimates using the peer-reviewed calibration model are anticipated to be available for use in subsequent stock assessments and fisheries management decisions in spring 2026. See SUPPLEMENTARY INFORMATION.

DATES: The calibration peer review workshop will be held virtually Sept. 23 and 24, 2025, from 9 a.m. to 3:30 p.m. EDT and from 9 a.m. to 3 p.m. EDT, respectively. The established times may be adjusted as necessary to accommodate the timely completion of discussion relevant to the peer review process. Such adjustments may result in the meeting being extended from or completed prior to the times established by this notice.

ADDRESSES: This is a virtual meeting. The meeting will be live streamed. Individuals may register to virtually attend the workshop by going to the following links:

• Registration link, Day 1, Sept. 23: (https://noaanmfs-meets.webex.com/weblink/register/r4fe7a6bde76fd199c21f3cf0fa6e9d05)

• Registration link, Day 2, Sept. 24: (https://noaanmfs-meets.webex.com/weblink/register/r9e933f7718ec4d1776a9103c5e3c879a)

Registration is required. The web connection details will be provided to the registrant upon registering. If you have issues with registering, please contact Dr. Katherine Papacostas (see FOR FURTHER INFORMATION CONTACT). The attendee cap for this meeting is 1,000 individuals.

FOR FURTHER INFORMATION CONTACT: Dr. Katherine Papacostas, MRIP program manager; 301-427-8210 or email: katherine.papacostas@noaa.gov.

SUPPLEMENTARY INFORMATION: NOAA Fisheries' Office of Science and Technology has commissioned an independent, expert peer review to assess the quality and credibility of the proposed calibration model to be used to update the historical recreational fishing estimates produced using the current FES to the scale of the improved FES anticipated for implementation in January 2026.

Fishing Effort Survey Background

As part of the Agency's continuous evaluation and improvement process, NOAA Fisheries has been researching improvements to the FES, which is a key survey component of the Marine Recreational Information Program (MRIP) that estimates recreational fishing effort—specifically, the number of fishing trips taken by shore and private boat anglers from Maine to Mississippi and in Hawaii. The current FES mail survey design was implemented in 2018 and replaced the legacy Coastal Household Telephone Survey (CHTS) to address declining response rates and coverage issues associated with landline telephone surveys.

Throughout 2024, NOAA Fisheries conducted a large-scale study (https://www.fisheries.noaa.gov/recreational-fishing-data/fishing-effort-survey-research-and-improvements) to test improvements to the FES based on results of prior pilot studies. The tested design increased the administration of the survey from every 2 months to monthly and changed the order of two fishing effort questions to improve respondent reporting. Based on the study findings and pending peer review results of the study report and proposed design (anticipated in late summer 2025), the Agency plans to implement an improved FES design.

Calibration Model Background

To assure continuity and comparability of recreational fishing effort estimates through survey design changes, NOAA Fisheries' team of statistical consultants developed a calibration model. This model updates historical estimates produced by the current FES to estimates that would have been produced had the improved design been in place prior to 2026. This updated calibration model incorporates and builds upon the peer-reviewed model developed to calibrate the historical estimate time series from the CHTS to the current FES.

Peer Review and Workshop Objectives

The objective of this peer review is to evaluate the effectiveness and suitability of the proposed calibration model for re-estimating historical estimates of private boat and shore fishing effort. It is a vital step in NOAA Fisheries' commitment to enhancing the quality and reliability of recreational fishing data. Insights gained from the peer review will inform the finalization of the calibration model and guide its application in updating historical effort estimates, ensuring fisheries stock assessment and management continue to be based on statistically robust and consistent catch and effort data. The final peer review report outlining findings and recommendations is anticipated to be completed and submitted to NOAA Fisheries in late fall 2025.

Day 1 of the workshop focuses on technical presentations and discussion regarding objectives of the peer review; the 2024 FES study; background on calibration purpose and needs; and a walkthrough of the updated calibration model methodology, assumptions, and model outputs. In addition, partners and the public will have the opportunity to raise questions and concerns regarding the presented information. Day 2 of the workshop includes a Q&A with the calibration model developer and panel-only sessions for initial model assessment discussions and report planning.

See attached agenda and peer review performance work statement for further information.

Authority: 16 U.S.C. 1801 et seq.

Dated: August 27, 2025.
Howard Townsend,
Acting Director, Office of Science and Technology, National Marine Fisheries Service.

[FR Doc. 2025-16825 Filed 9-2-25; 8:45 am]

BILLING CODE 3510-22-P